NUCLEAR REGULATORY COMMISSION

[Docket Nos. 50-331; 50-445; 50-446; 50-341; 50-261; 50-354; 50-272; 50-311; 50-284; 50-166; 50-020; 50-184; 50-277; 50-278; 50-186; 50-424; 50-425; NRC-2020-0110]

Issuance of Multiple Exemptions in Response to COVID-19; Public Health Emergency

AGENCY: Nuclear Regulatory Commission.

ACTION: Exemptions; issuance.

SUMMARY: The U.S. Nuclear Regulatory Commission (NRC) issued 16 exemptions in response to requests from 12 licensees. The exemptions allow these licensees temporary relief from certain requirements under NRC regulations. The exemptions are in response to the COVID-19 public health emergency (PHE). The NRC is issuing a single notice to announce the issuance of the exemptions.

DATES: The 16 exemptions were issued between May 7, 2020, and May 29, 2020.

ADDRESSES: Please refer to Docket ID NRC-2020-0110 when contacting the NRC about the availability of information regarding this document. You may obtain publicly-available information related to this document using any of the following methods:

• Federal Rulemaking Website: Go to https://www.regulations.gov and search for Docket ID NRC-2020-0110. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

For the convenience of the reader, instructions about obtaining materials referenced in this document are provided in the “Availability of Documents” section.

FOR FURTHER INFORMATION CONTACT: James Danna, Office of Nuclear Reactor Regulation, U.S. Nuclear Regulatory Commission, Washington DC 20555-0001; telephone: 301-415-7422, email: James.Danna@nrc.gov.

SUPPLEMENTARY INFORMATION:

I. Introduction

The NRC issued 16 exemptions to 12 licensees in response to requests dated between April 30, 2020, and May 21, 2020. These exemptions temporarily allow the licensees to deviate from certain requirements (as cited below) of various parts of chapter I of Title 10 of the Code of Federal Regulations (10 CFR).

The exemption from certain requirements of 10 CFR part 20 for the University of Missouri-Columbia (for its research reactor) allows the licensee temporary relief from the respirator fit-testing requirements of 10 CFR 20.1703(c)(6). This temporary exemption does not conflict with practices recommended by the Centers for Disease Control and Prevention to limit the spread of COVID-19. The licensee has committed to implement a licensee-specific process to manage any personnel with overdue respiratory protection fit-tests while ensuring the safety of its workers.

The exemption from certain requirements of 10 CFR part 26 for DTE Electric Company (for Fermi 2) allows the licensee temporary relief from the work-hour controls under 10 CFR 26.205(d)(1) through (d)(7). The licensee stated that its staffing levels are affected or are expected to be affected by the COVID-19 PHE, and it can no longer meet or likely will not meet the work-hour controls of 10 CFR 26.205(d)(1) through (d)(7). The licensee has committed to implementing site-specific administrative controls for COVID-19 PHE fatigue-management for personnel specified in 10 CFR 26.4(a). This temporary exemption from certain requirements of 10 CFR part 26 ensures that the licensee's control of work hours and management of worker fatigue do not unduly limit licensee flexibility in using personnel resources to most effectively manage the impacts of the COVID-19 PHE on maintaining the safe operation of this facility.

The exemptions from certain requirements of 10 CFR part 55 for Idaho State University (for its research reactor); Massachusetts Institute of Technology (for its research reactor); National Institute of Standards and Technology (for its test reactor); PSEG Nuclear LLC (for the Hope Creek Generating Station and Salem Nuclear Generating Station, Units 1 and 2); and University of Maryland (for its training reactor) allow these licensees temporary exemptions from requirements related to licensed operator requalification program scheduling (under 10 CFR 55.59(a)(1), 10 CFR 55.59(a)(2), and 10 CFR 55.59(c)(1)); licensed operator active status for research and test reactors (under 10 CFR 55.53(e)); and delays in completion of biennial medical examinations of licensed operators and senior operators (under 10 CFR 55.21 and 10 CFR 55.53(i)). These licensees have committed to compensatory measures to address the delay in receipt of recommendations from a licensed physician concerning their licensed operator's health. These licensees have also committed to implement a program to evaluate operator performance in the facility and control room to identify and correct operator performance issues in a timely manner. Lastly, the research, training, and test reactor licensees committed to use alternative measures for the hours under the 4-hour minimum of 10 CFR 55.53(e).

The exemptions from certain requirements of 10 CFR part 73 for Duke Energy Progress, LLC (for the H. B. Robinson Steam Electric Plant, Unit 2); Exelon Generation Company, LLC (for the Peach Bottom Atomic Power Station, Units 2 and 3); PSEG Nuclear LLC (for the Hope Creek Generating Station and Salem Nuclear Generating Station, Units 1 and 2); NextEra Energy Duane Arnold, LLC (for the Duane Arnold Energy Center); Southern Nuclear Operating Company, Inc. (for the Vogtle Electric Generating Plant, Units 1 and 2); and Vistra Operations Company, LLC (for the Comanche Peak Nuclear Power Plant, Units 1 and 2), allow these licensees temporary exemptions from certain requirements of 10 CFR part 73, Appendix B, “General Criteria for Security Personnel,” Section VI. The exemptions will help to ensure that these regulatory requirements do not unduly limit licensee flexibility in using personnel resources in a manner that most effectively manages the impacts of the COVID-19 PHE on maintaining the safe and secure operation of these facilities and the implementation of a licensee's NRC-approved security plans, protective strategy, and implementing procedures. These licensees have committed to certain security measures to ensure response readiness and for their security personnel to maintain performance capability.

The NRC is providing compiled tables of exemptions using a single Federal Register notice for COVID-19-related exemptions instead of issuing individual Federal Register notices for each exemption. The compiled tables below provide transparency regarding the number of exemptions the NRC is issuing. Additionally, the NRC publishes tables of approved regulatory actions related to the COVID-19 PHE on its public website at https://www.nrc.gov/about-nrc/covid-19/reactors/licensing-actions.html.

II. Availability of Documents

The tables below provide the facility name, docket number, document title, and ADAMS accession number for each exemption issued. Additional details on each exemption issued, including the exemption request submitted by the respective licensee and the NRC's decision, are provided in each exemption approval listed on the tables below. For additional directions on accessing information in ADAMS, see the ADDRESSES section of this document.

Duane Arnold Energy Center—Docket No. 50-331
Document title | ADAMS accession No.
Duane Arnold Energy Center—Exemption Request for Security Training Requirements Due to COVID-19 Pandemic, dated May 1, 2020 | ML20122A130 (non-public, withheld under 10 CFR 2.390).
Duane Arnold Energy Center—Response to Request for Additional Information Regarding Exemption Request for Security Training Requirements Due to COVID-19 Pandemic, dated May 20, 2020 | ML20141L497.
Duane Arnold Energy Center—Exemption Request from Certain Requirements of 10 CFR Part 73, Appendix B, “General Criteria for Security Personnel,” Section VI (EPID L-2020-LLE-0042 to L-2020-LLE-0045 and L-2020-LLE-0051 [COVID-19]), dated May 26, 2020 | ML20139A006.

Comanche Peak Nuclear Power Plant, Units 1 and 2—Docket Nos. 50-445 and 50-446
Document title | ADAMS accession No.
CPNPP COVID-19 Part 73 Security Training Exemption Request, dated May 14, 2020 | ML20135H233 (non-public, withheld under 10 CFR 2.390).
Comanche Peak Nuclear Power Plant, Units 1 and 2—Exemption Request from Certain Requirements of 10 CFR Part 73, Appendix B, “General Criteria for Security Personnel,” Section VI (EPID L-2020-LLE-0061) [COVID-19], dated May 29, 2020 | ML20136A141.

Fermi 2—Docket No. 50-341
Document title | ADAMS accession No.
Fermi 2 Work Hour Limits Exemption Request Due to COVID-19, dated May 11, 2020 | ML20132A239.
Fermi 2—Exemption from Select Requirements of 10 CFR Part 26 (EPID L-2020-LLE-0056 [COVID-19]), dated May 14, 2020 | ML20133K055.

H. B. Robinson Steam Electric Plant, Unit No. 2—Docket No. 50-261
Document title | ADAMS accession No.
H. B. Robinson Steam Electric Plant, Unit 2, Response in Related to the NRC Plan[n]ed Actions Requirements for Part 73, Appendix B, Section VI During the Coronavirus Disease 2019 Public Health Emergency, dated April 30, 2020 | ML20121A191 (non-public, withheld under 10 CFR 2.390).
H. B. Robinson Steam Electric Plant, Unit 2—Temporary Exemption from Certain Requirements of 10 CFR Part 73, Appendix B, “General Criteria for Security Personnel,” Section VI (EPID L-2020-LLE-0041 [COVID-19]), dated May 14, 2020 | ML20129J867.

Hope Creek Generating Station—Docket No. 50-354
Document title | ADAMS accession No.
Hope Creek Generating Station—Part 55 Exemption Request (COVID-19) (Redacted), dated May 4, 2020 | ML20126G379.
Hope Creek Generating Station—Exemption from Select Requirements of 10 CFR Part 55, “Operators' Licenses” (EPID L-2020-LLE-0049 [COVID-19]), dated May 7, 2020 | ML20125A379.

Hope Creek Generating Station—Docket No. 50-354
Document title | ADAMS accession No.
Hope Creek Generating Station—Part 55 Exemption Request for Power Reactors (COVID-19) (Redacted), dated May 21, 2020 | ML20142A512.
Hope Creek Generating Station—Exemption from Select Requirements of 10 CFR Part 55, “Operators' Licenses” (EPID L-2020-LLE-0066 [COVID-19]), dated May 29, 2020 | ML20148M318.

Hope Creek Generating Station and Salem Nuclear Generating Station, Unit Nos. 1 and 2—Docket Nos. 50-354, 50-272, and 50-311
Document title | ADAMS accession No.
Salem Generating Station, Units 1 and 2, and Hope Creek Generating Station—Request a Temporary Exemption from the Identified Security Training Requalification Requirements listed in the Table, dated May 12, 2020 | ML20133K163 (non-public, withheld under 10 CFR 2.390).
Hope Creek Generating Station and Salem Nuclear Generating Station, Unit Nos. 1 and 2—Temporary Exemptions from Certain Requirements of 10 CFR Part 73, Appendix B, “General Criteria for Security Personnel,” Section VI (EPID L-2020-LLE-0058 [COVID-19]), dated May 19, 2020 | ML20134J083.

Idaho State University Research Reactor—Docket No. 50-284
Document title | ADAMS accession No.
Idaho State University—Request for Exemption to License R-110 Requirements, dated May 13, 2020 | ML20135G765.
E-mail from ISU, COVID-19 Part 55 Exemption Supplement, dated May 21, 2020 | ML20142A492.
Idaho State University—Approval of Exemption from Select Requirements of 10 CFR Part 55, “Operators' Licenses,” dated May 22, 2020 | ML20142A499.

University of Maryland Training Reactor—Docket No. 50-166
Document title | ADAMS accession No.
University of Maryland—Part 55 Exemption Request for Research and Test Reactors/Non-Power Reactors” REDACTED, dated May 13, 2020 | ML20142A271.
University of Maryland—Approval of Exemption from Select Requirements of 10 CFR Part 55, “Operators' Licenses,” dated May 22, 2020 | ML20142A288.

Massachusetts Institute of Technology Research Reactor—Docket No. 50-020
Document title | ADAMS accession No.
10 CFR [Part] 55 Requirement Exemption Request for the Massachusetts Institute of Technology Research Reactor, Facility Operating License No. R-37, dated May 11, 2020 | ML20135H166.
Massachusetts Institute of Technology—Approval of Exemption from Select Requirements of 10 CFR Part 55, “Operators' Licenses,” dated May 15, 2020 | ML20135H188.

National Bureau of Standards Test Reactor—Docket No. 50-184
Document title | ADAMS accession No.
E-mail COVID-19 Part 55 Exemption Request NIST—REDACTED, dated May 11, 2020 | ML20136A442.
National Institute of Standards and Technology—Approval of Exemption from Select Requirements of 10 CFR Part 55, “Operators' Licenses,” dated May 18, 2020 | ML20133J915.

Peach Bottom Atomic Power Station, Units 2 and 3—Docket Nos. 50-277 and 50-278
Document title | ADAMS accession No.
Peach Bottom Atomic Power Station, Units 2 and 3, Request for Exemption from Certain 10 CFR Part 73 Training Requirements Due to Coronavirus 2019 Public Health Emergency, dated May 8, 2020 | ML20129K011 (non-public, withheld under 10 CFR 2.390).
Peach Bottom Atomic Power Station, Units 2, and 3—Exemption Request from Certain Requirements of 10 CFR Part 73, Appendix B, “General Criteria for Security Personnel” (EPID L-2020-LLE-0055), dated May 20, 2020 | ML20132A285.

Salem Nuclear Generating Station, Unit Nos. 1 and 2—Docket Nos. 50-272 and 50-311
Document title | ADAMS accession No.
Salem Nuclear Generating Station, Units Nos. 1 and 2—Part 55 Exemption Request (COVID-19) (Redacted), dated May 4, 2020 | ML20126G378.
Salem Nuclear Generating Station, Unit Nos. 1 and 2—Exemption from Select Requirements of 10 CFR Part 55, “Operators' Licenses” (EPID L-220-LLE-0048 [COVID-19]), dated May 7, 2020 | ML20122A140.

Salem Nuclear Generating Station, Unit Nos. 1 and 2—Docket Nos. 50-272 and 50-311
Document title | ADAMS accession No.
Salem Nuclear Generating Station, Units Nos. 1 and 2—Part 55 Exemption Request for Power Reactors (COVID-19) (Redacted), dated May 21, 2020 | ML20142A513.
Salem Nuclear Generating Station, Unit Nos. 1 and 2—Exemption from Select Requirements of 10 CFR Part 55, “Operators' Licenses” (EPID L-220-LLE-0065 [COVID-19]), dated May 29, 2020 | ML20148M329.

University of Missouri—Columbia Research Reactor—Docket No. 50-186
Document title | ADAMS accession No.
University of Missouri-Columbia—Applying for Respirator Exemption Signed, dated May 4,2020 | ML20126G458.
The University of Missouri at Columbia—Exemption from Select Requirements of Title 10 of the Code of Federal Regulations Part 20, “Standards for Protection Against Radiation” (EPID L-2020-LLL-0008 [COVID-19]), dated May 18, 2020 | ML20128J494.

Vogtle Electric Generating Plant, Units 1 and 2—Docket Nos. 50-424 and 50-425
Document title | ADAMS accession No.
Vogtle Electric Generating Plant Units 1 and 2 (VEGP) Requests a Temporary Exemption from the Identified Security Training Requalification Requirements, dated May 8, 2020 | ML20129J923 (non-public, withheld under 10 CFR 2.390).
Vogtle Electric Generating Plant, Units 1 and 2—Exemption Request from Certain Requirements of 10 CFR Part 73, Appendix B, “General Criteria for Security Personnel,” Section VI (EPID L-2020-LLE-0047), dated May 14, 2020 | ML20126G266.

The NRC may post additional materials to the Federal rulemaking website at https://www.regulations.gov under Docket ID NRC-2020-0110. The Federal rulemaking website allows you to receive alerts when changes or additions occur in a docket folder. To subscribe: (1) Navigate to the docket folder (NRC-2020-0110); (2) click the “Sign up for Email Alerts” link; and (3) enter your email address and select how frequently you would like to receive emails (daily, weekly, or monthly).

Dated: June 11, 2020.
For the Nuclear Regulatory Commission.
Jennifer C. Tobin,
Project Manager, Plant Licensing Branch I, Division of Operating Reactor Licensing, Office of Nuclear Reactor Regulation.

[FR Doc. 2020-12961 Filed 6-15-20; 8:45 am]

BILLING CODE 7590-01-P